DEPARTMENT OF HEALTH AND HUMAN SERVICES

Administration for Children and Families

Proposed Information Collection Activity; OPRE Data Collection for the Next Generation of Enhanced Employment Strategies Project (Revision of a Currently Approved Collection—OMB #0970-0545)

AGENCY: Office of Planning, Research, and Evaluation, Administration for Children and Families, HHS.

ACTION: Request for public comment.

SUMMARY: The Office of Planning, Research, and Evaluation (OPRE) within the Administration for Children and Families (ACF) is proposing revisions to data collection activities conducted for the Next Generation of Enhanced Employment Strategies (NextGen) Project, which is rigorously evaluating innovative interventions designed to promote employment and economic security among low-income individuals with complex challenges to employment. The project includes an experimental impact study, descriptive study, and cost study. The project is seeking clearance for changes to the previously approved Phase 1 instruments, updates to the previously approved consent form, and clearance for a parent/guardian consent form and a youth assent form for use in evaluations of programs for youth. The project also seeks approval to use a subset of Phase 2 instruments with programs selected for inclusion in the project with some changes made to those instruments. The requested changes do not change the previously submitted burden estimates.

DATES: Comments due within 30 days of publication. OMB is required to make a decision concerning the collection of information between 30 and 60 days after publication of this document in the Federal Register. Therefore, a comment is best assured of having its full effect if OMB receives it within 30 days of publication.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The NextGen Project will identify and test up to 10 innovative, promising employment interventions designed to help individuals facing complex challenges secure a pathway toward economic independence. In April 2020, OMB approved the new information collection request (ICR) for Phase 1 data collection instruments for the project (for more information, see materials at https://www.reginfo.gov/public/do/PRAViewICR?ref_nbr=202012-0970-003). The first ICR included drafts of Phase 2 data collection instruments and associated burden estimates for initial review, information purposes, and public comment. We indicated that if a Phase 2 instrument required revisions to tailor to specific programs selected for evaluation, we will submit as either a non-substantive change request or a revision with abbreviated public comment time, dependent on the level of changes and guidance provided by OMB.

As the NextGen Project has engaged in assessing promising programs for inclusion in the study, we have gained knowledge that suggests necessary refinements to the Phase 1 instruments. In response to this knowledge and the 2019 novel coronavirus disease (COVID-19) pandemic, we are seeking changes to the Phase 1 data collection instruments and the study's informed consent form. We also seek clearance for a parent/guardian consent form and a youth assent form for use in evaluations of programs that serve youth, and approval to use two of the Phase 2 instruments with minor revisions. Below are additional details regarding these requests and further information regarding the changes requested is available (Appendix Q). The requested changes do not change the previously submitted burden estimates.

Informed Consent Form (Appendix A)

We propose revisions to the study's consent form to reflect recent study design changes, specifically to allow programs to share additional information about study participants (mental health diagnoses, referral source, and contact information) to allow for a fuller description of the participants and to facilitate locating them for later data collections; to cover collecting administrative data for up to 20 years after study enrollment, rather than 10 years, to allow for estimation of longer-term impacts on participants; to change the date through when SSA can conduct research on study participants, from 2028 to 2040, to account for study schedule delays due to COVID-19; and to include consent for recording of study interviews. We also made minor revisions requested by the project's institutional review board. Lastly, we developed two additional consent forms (Appendix A.1) by adapting the study consent form—one to collect consent from parents/guardians of youth and one to collect assent from youth.

Baseline Survey (Instrument 1)

We propose changes to the baseline survey based on the study team's ongoing assessment of promising programs. Changes include:

• Minor revisions to the wording of some items, for clarity, and to skip patterns.

• Modifications to the items about emergency support (B18 and B19) to ask how many people someone can turn to for help, to better measure social support outcomes.

• Addition of items to collect information on social trust (B20, B21, and B22).

• Revisions to current items and addition of a few items to collect data on variables that may predict employment outcomes for respondents that were recently released from jail or prison, specifically:

○ Revision to the item asking whether the respondent was ever convicted (C9) to collect number of convictions and addition of an item (C9a) to collect the number of felony convictions.

○ Revisions to collect more detail about parole or probation (C10).

○ Addition of an item (C10a) to collect the type of crime committed and an item to collect time spent in last incarceration (C12a).

• Addition of items (C4b, C5a, C6e1, C6e2, C6r, C6s, D1a) to collect information on whether COVID-19 posed specific challenges to employment for study participants and to ask if participants have been vaccinated against COVID-19 (D1a), as this is likely to be associated with employment outcomes.

Identifying and Contact Information (Instrument 2)

We propose changes to the identifying and contact information collection. Changes include:

• Addition of the Center for Epidemiologic Studies Depression Scale Revised (CESD-R, added as item B2) for use by one program under consideration for evaluation that uses the scale as a programmatic eligibility screening tool. The CESD-R will only display for this program to facilitate program intake; other programs will skip these items. The study team will maintain CESD-R scores for those who are eligible for the program and also consent to participate in the study (as noted in the consent form).

• Addition of items (in item B3 and B4) that will only display for programs that work with school districts and/or youth to ask if a study applicant is in a prefilled school district, and obtain consent for being recorded, if such consent is required by the district.

• Addition of a question (item B9) about the likelihood that the study participant will be assigned to a career navigator for programs that use this intervention.

Service Receipt Tracking (Instrument 5)

We request approval to use the Phase 2 service receipt tracking instrument to collect information from most programs selected for the NextGen Project, with the following proposed changes: Inclusion of additional modes of service delivery; addition of in-person service locations; allowance of program-specific responses to how services were terminated; and tailoring for certain items' response options to ensure service receipt data collection captures program-specific services.

Semi-Structured Employer Discussion Guide (Instrument 9)

We request approval to use the Phase 2 employer discussion guide to collect information from all programs selected for the NextGen Project. We propose minor revisions to the instrument to add probes about changes to the employer's relationship with the program as a result of the pandemic.

Respondents: Program staff, program partners, employer staff, and individuals enrolled in the NextGen Project. Program staff and partners may include case managers, health professionals, workshop instructors, job developers, supervisors, managers, and administrators. Employers may include administrators, human resources staff, and worksite supervisors.

Annual Burden Estimates

The annual burden estimates for the instruments included in this request are presented below. All currently approved materials under OMB #0970-0545 and the associated burden can be found at https://www.reginfo.gov/public/do/PRAViewICR?ref_nbr=202012-0970-003.

Instrument | Total number of respondents | Annual number of respondents | Number of responses per respondent | Average burden hours per response | Annual burden hours
PHASE 1
Baseline survey & identifying and contact information—participants | 10,000 | 3,333 | 1 | 0.42 | 1,400
Baseline survey & identifying and contact information—staff | 200 | 67 | 50 | 0.42 | 1,400
Estimated Total Annual Burden Hours, Phase 1: | 2,800
PHASE 2 ESTIMATES
Service receipt tracking—staff | 200 | 67 | 250 | 0.08 | 1,340
Semi-structured employer interviews—employers | 50 | 17 | 1 | 1.0 | 17
Estimated Total Annual Burden Hours, Phase 2: | 1,357

Authority: Section 413 of the Social Security Act, as amended by the FY 2017 Consolidated Appropriations Act, 2017 (Pub. L. 115-31).

Mary B. Jones,
ACF/OPRE Certifying Officer.

[FR Doc. 2020-29234 Filed 1-5-21; 8:45 am]

BILLING CODE 4184-09-P